DEPARTMENT OF ENERGY

Federal Energy Regulatory Commission

[Docket No. ER03-563-030]

Devon Power LLC, et al.; Notice Scheduling Oral Argument

August 25, 2005.

On June 15, 2005, the Administrative Law Judge (ALJ) issued an Initial Decision in this proceeding.¹ Certain parties requested oral argument before the Commission. On August 10, 2005, the Commission granted oral argument and stated that it would issue a subsequent notice with the times, agenda and other information.²

¹ Devon Power LLC, 111 FERC ¶ 63,063 (2005).

² Devon Power LLC, 112 FERC ¶ 61,179 (2005).

Oral argument will be held on September 20, 2005, at 10 a.m. in the Commission Meeting Room at 888 First Street, NE., Washington, DC 20426.

Parties are encouraged to come prepared to discuss the concept of Locational Installed Capacity (LICAP) mechanisms, concerns with the proposed LICAP, and alternative approaches to LICAP. Parties are directed to address the following questions:

1. Does the proposal (or any alternative approach) provide for just and reasonable wholesale power prices in New England, at levels that encourage needed generation additions?

2. Will the proposal (or any alternative approach) provide adequate assurance that necessary electric generation capacity or reliability will be provided? If so, how?

3. What are the costs, benefits, and economic impacts of the proposal (or any alternative approach), compared to continued reliance on the status quo, such as the cost of Reliability-Must-Run agreements?

Oral argument will begin with a short presentation of the case by Commission Trial Staff. It will be followed by a discussion devoted to ISO-NE's LICAP proposal and will include a discussion of the above posed questions. ISO-NE and the parties aligned with it will begin the morning session. They will be allotted a total of one hour and fifteen minutes to present their arguments, a portion of which may be reserved for rebuttal purposes. The Connecticut Parties, New England Conference of Public Utilities Commissioners, and parties aligned with them will be allotted one hour and fifteen minutes to respond.

The afternoon session will be devoted to a discussion of alternatives to LICAP. The Connecticut Parties, New England Conference of Public Utilities Commissioners, and parties aligned with them will be allotted one hour and fifteen minutes to present their proposals and arguments, a portion of which may be reserved for rebuttal purposes. ISO-NE and the parties aligned with it will respond. They will be allotted a total of one hour and fifteen minutes to present their arguments. No later than September 13, 2005, the parties in this proceeding must notify the Commission of the names of the representatives who will speak and the way they desire to allocate their allotted time. Parties are also requested to provide no later than September 13, 2005 a brief (no more than 20 pages) description of each alternative approach they will be presenting, including a comparison of each alternative to ISO-NE's LICAP proposal, and a description of the alternative's benefits.

A transcript of the conference will be immediately available from Ace Reporting Company (202-347-3700 or 1-800-336-6646) for a fee. It will be available for the public on the Commission's eLibrary system seven calendar days after FERC receives the transcript. Additionally, Capitol Connection offers the opportunity for remote listening and viewing of the conference. It is available for a fee, live over the Internet, by phone or via satellite. Persons interested in receiving the broadcast or who need information on making arrangements should contact David Reininger or Julia Morelli at the Capitol Connection (703-993-3100) as soon as possible or visit the Capitol Connection Web site at http://www.capitolconnection.org and click on “FERC.”

FERC conferences are accessible under section 508 of the Rehabilitation Act of 1973. For accessibility accommodations please send an e-mail to accessibility@ferc.gov or call toll free (866) 208-3372 (voice) or (202) 208-1659 (TTY), or send a FAX to (202) 208-2106 with the required accommodations.

Magalie R. Salas,
Secretary.

[FR Doc. E5-4814 Filed 9-1-05; 8:45 am]

BILLING CODE 6717-01-P